DEPARTMENT OF HEALTH AND HUMAN SERVICES

Substance Abuse and Mental Health Services Administration

Correction of Application Deadline for the Grant Program, Community Collaborations to Prevent Youth Violence and Promote Youth Development (SM 03-005) (Short Title: Youth Violence Prevention Grants)

AGENCY: Substance Abuse and Mental Health Services Administration (SAMHSA), DHHS.

ACTION: Correction of application deadline for the grant program, Community Collaborations to Prevent Youth Violence and Promote Youth Development (SM 03-005) (Short Title: Youth Violence Prevention Grants).

SUMMARY: This notice is to inform the public that the application deadline published on November 26, 2002, for the grant program, Community Collaborations to Prevent Youth Violence and Promote Youth Development (SM 03-005) (Short Title: Youth Violence Prevention Grants), is incorrect. The correct application deadline is January 22, 2003.

Program Contact

For questions about the due date for this program or other program issues relating to this program, contact: Pat Shea, M.S.W., M.A., Special Programs Development Branch, CMHS/SAMHSA, Parklawn Building, Room 17C-26, 5600 Fishers Lane, Rockville, MD 20857. (301) 443-3655. (Email) pshea@samhsa.gov.

Dated: November 26, 2002.
Richard Kopanda,
Executive Officer, SAMHSA.

[FR Doc. 02-30644 Filed 12-2-02; 8:45 am]

BILLING CODE 4162-20-P